DEPARTMENT OF HEALTH AND HUMAN SERVICES

Administration for Children and Families

Proposed Information Collection Activity; Request for Certification of Adult Victims of Human Trafficking

AGENCY: Office on Trafficking in Persons, Administration for Children and Families, U.S. Department of Health and Human Services.

ACTION: Request for public comments.

SUMMARY: The Administration for Children and Families (ACF), Office on Trafficking in Persons (OTIP) is requesting a 3-year extension of the form: Request for Certification of Adult Victims of Human Trafficking (RFC) form (Office of Management and Budget (OMB) #: 0970-0454, expiration April 30, 2025).

DATES: Comments due February 7, 2025. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION:

Description: The U.S. Department of Health and Human Services (HHS) provides letters of certification to victims of severe forms of trafficking in persons under the authority of the Trafficking Victims Protection Act of 2000 (TVPA), as amended 22 U.S.C. 7105(b)(1)(C) and (E). HHS delegated this authority to OTIP. Certification is required for foreign national adult victims of human trafficking in the U.S. to apply for federally funded benefits and services.

OTIP developed the RFC form for potential victims and their advocates, including case managers, attorneys, law enforcement officers, service providers, and other representatives to provide the required information for certification to HHS in accordance with the TVPA of 2000, as amended.

Since the RFC form originally received clearance, OTIP modernized its request process and launched Shepherd, an online case management system, to process requests for certification and assistance. The PDF version of the form should only be used in exceptional circumstances when the online case management system is inaccessible. If a requester encounters issues submitting a request through Shepherd, they may submit the RFC form to OTIP as a password protected PDF to Trafficking@acf.hhs.gov.

The form asks the requester for their identifying information, identifying information for the individual who experienced trafficking victimization in the event the form is submitted by a case manager, and information describing the victim's case management service needs.

Respondents: Potential victims of a severe form of trafficking in persons and their advocates, including case managers, attorneys, law enforcement officers, service providers, and other representatives.

Annual Burden Estimates

The fluctuation in certification letters issued by HHS primarily reflects changing patterns in law enforcement investigations and the number of T visas and Continued Presence status issued by the Department of Homeland Security (DHS). In April 2024, DHS U.S. Citizenship and Immigration Services (USCIS) issued a (89 FR 34864) updating regulations that govern the requirements and procedures for foreign nationals who have experienced human trafficking seeking a T visa and eligible family members seeking derivative T-2 nonimmigrant status (T visa derivative). The Final Rule established a process for USCIS to conduct bona fide determinations (BFDs). Principal applicants who have submitted a complete bona fide T visa application will receive a BFD and are eligible for case management services and for benefits and services to the same extent as refugees through HHS Certification while their application is pending. OTIP anticipates that the USCIS Final Rule will significantly increase the number of requests for certification received. Since the Final Rule went into effect, OTIP has received approximately 100 RFCs per week, whereas historically, OTIP received approximately 8 to 12 RFCs per week. Burden estimates for this collection have been revised, accordingly.

Instrument | Total number of respondents | Total number of responses per respondent | Average burden hours per response | Total burden hours | Annual burden hours
Request for Certification of Adult Victims of Human Trafficking | 15,600 | 1 | 1 | 15,600 | 5,200

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S.C. 7105.

Mary C. Jones,
ACF/OPRE Certifying Officer.

[FR Doc. 2024-28819 Filed 12-6-24; 8:45 am]

BILLING CODE 4184-47-P